DEPARTMENT OF STATE

[Public Notice 7979]

Privacy Act; System of Records: State-35, Information Access Programs Records

SUMMARY: Notice is hereby given that the Department of State proposes to amend an existing system of records, Information Access Programs Records, State-35, pursuant to the provisions of the Privacy Act of 1974, as amended (5 U.S.C. 552a) and Office of Management and Budget Circular No. A-130, Appendix I.

DATES: This system of records will be effective on September 24, 2012, unless we receive comments that will result in a contrary determination.

ADDRESSES: Any persons interested in commenting on the amended system of records may do so by writing to the Director; Office of Information Programs and Services, A/GIS/IPS; Department of State, SA-2; 515 22nd Street NW.; Washington, DC 20522-8001.

FOR FURTHER INFORMATION CONTACT: Director; Office of Information Programs and Services, A/GIS/IPS; Department of State, SA-2; 515 22nd Street NW.; Washington, DC 20522-8001.

SUPPLEMENTARY INFORMATION: The Department of State proposes that the current system retain the name “Information Access Programs Records.” The proposed system will include revisions to the following sections: Categories of individuals, Categories of records, Authorities, Purpose, Routine Uses, Safeguards, and other administrative updates. The following section has been added to the system of records, Information Access Programs Records, State-35, to ensure Privacy Act of 1974 compliance: Disclosure to Consumer Reporting Agencies.

The Department's report was filed with the Office of Management and Budget. The amended system description, “Information Access Programs Records, State-35,” will read as set forth below.

Dated: June 18, 2012.
Joyce A. Barr,
Assistant Secretary for Administration, U.S. Department of State.

STATE-35

SYSTEM NAME:

Information Access Programs Records.

SECURITY CLASSIFICATION:

Unclassified and Classified.

SYSTEM LOCATION:

Department of State; SA-2; 515 22nd Street NW.; Washington, DC 20522-8001.

CATEGORIES OF INDIVIDUALS COVERED BY THE SYSTEM:

Individuals requesting access to Department of State records under the Freedom of Information Act, the Privacy Act, the Ethics in Government Act, the access provisions of Executive Order 13526 or a successor order on national security information, and Touhy regulations. Also covered are individuals and entities requesting access to Department of State records pursuant to certain other authorities for special document requests, discovery and litigation support requests.

CATEGORIES OF RECORDS IN THE SYSTEM:

Records in the system include but are not limited to the request letters and Department responses, copies of responsive records (if applicable) and any other correspondence, memoranda, interrogatories and declarations related to the processing of the request from the initial receipt stage through to completion, amendment, appeal and litigation.

Hard copy records and electronic records may contain: the date of the request; requester's name and requester's mailing and email address; Social Security number (if provided by the requester) or other personal identifiers; place of birth, and/or date of birth in the form of scanned hardcopy documents or case tracking information entered into the system during the initial processing stage; type of case; case number; dates of acknowledgement letters; fee categories; search and review taskings; number of documents/pages found, reviewed and released or denied; date of response and, where applicable, the exemptions applied pursuant to the Freedom of Information Act or Privacy Act. These records may also contain names, addresses and phone numbers of attorneys, law firms, judges and U.S. attorneys involved with the processing or litigation of the case, as well as separate but related court decisions.

AUTHORITY FOR MAINTENANCE OF THE SYSTEM:

5 U.S.C. 301 (Management of Executive Agencies); 5 U.S.C. 552 (Freedom of Information Act); 5 U.S.C. 552a (Privacy Act); 22 U.S.C. 2651a (Organization of the Department of State); 22 U.S.C. 3921 (Management of Foreign Service) and Executive Order 13526 (Classified National Security Information).

PURPOSE:

The information in this system supports the Department in the administration of its statutory responsibility for processing requests for access; amendments; appeals; special projects for Congress, the Government Accountability Office, and the Department of Justice in support of court orders and subpoenas; discovery, litigation support, and litigation pursuant to the Freedom of Information Act, the Privacy Act, Executive Order 13526 or a successor order on national security information, and Touhy regulations.

ROUTINE USES OF RECORDS MAINTAINED IN THE SYSTEM, INCLUDING CATEGORIES OF USERS AND THE PURPOSES OF SUCH USES:

Information in this system may be disclosed to:

1. Government agencies that have custody of Department of State records or that share with the Department responsibility for granting access to certain categories of records, to coordinate decisions on access to records;

2. Government agencies for concurrence reviews in recommendations for access to classified or restricted material and in making appropriate arrangements for such access;

3. A Court or adjudicative body for a proceeding, when the agency, or any component thereof, or any employee of the agency in his or her official capacity, is a party to litigation or has an interest in such litigation, and the agency determines that use of such records is relevant and necessary to the litigation;

4. Department of Justice for the purpose of obtaining its advice on any aspect of the processing of requests for information under the access provisions of the laws or in connection with litigation;

5. Actual or potential party to litigation or the party's attorney for the purpose of negotiation or discussion on such matters as settlement of the case or matter, plea bargaining or in formal or informal discovery proceedings;

6. Office of Management and Budget, National Archives and Records Administration or the Interagency Security Oversight Office, for the purpose of obtaining advice regarding agency obligations under any access provisions or restrictions of law;

7. Interagency Security Classification Appeals Panel or member agencies for the purpose of obtaining advice regarding agency obligations under any access provisions or restrictions of law; and

8. In response to a properly issued subpoena.

9. To the National Archives and Records Administration, Office of Government Information Services (OGIS), to the extent necessary to fulfill its responsibilities in 5 U.S.C. 552(h), to review administrative agency policies, procedures, and compliance with the Freedom of Information Act, and to facilitate OGIS' offering of mediation services to resolve disputes between persons making FOIA requests and administrative agencies.

The Department of State periodically publishes in the Federal Register its standard routine uses which apply to all of its Privacy Act systems of records. These notices appear in the form of a Prefatory Statement. These standard routine uses apply to Information Access Programs Records, State-35.

DISCLOSURE TO CONSUMER REPORTING AGENCIES:

None.

POLICIES AND PRACTICES FOR STORING, RETRIEVING, ACCESSING, RETAINING, AND DISPOSING OF RECORDS IN THE SYSTEM:

STORAGE:

Hard copy and electronic media.

RETRIEVABILITY:

Individual name, case number.

SAFEGUARDS:

All users are given cyber security awareness training which covers the procedures for handling Sensitive but Unclassified information, including personally identifiable information (PII). Annual refresher training is mandatory. In addition, all Foreign Service and Civil Service employees and those Locally Engaged Staff who handle PII are required to take the Foreign Service Institute distance learning course instructing employees on privacy and security requirements, including the rules of behavior for handling PII and the potential consequences if it is handled improperly.

Before being granted access to Information Access Programs Records, a user must first be granted access to the Department of State computer system.

All employees of the Department of State with authorized access have undergone a thorough background security investigation. Access to the Department of State, its annexes, and posts abroad is controlled by security guards and admission is limited to those individuals possessing a valid identification card or individuals under proper escort. All paper records containing personal information are maintained in secured file cabinets in restricted areas, access to which is limited to authorized personnel. Access to computerized files is password-protected and under the direct supervision of the system manager. In addition, all cases and user-accessible records containing PII are only accessible by cleared individuals whose login is contained on the Access Control List (ACL). If an individual is not listed on the ACL, he/she does not have any access to electronic records containing PII in the system. The system manager has the capability of printing audit trails of access from the computer media, thereby permitting regular and ad hoc monitoring of computer usage.

RETENTION AND DISPOSAL:

Records are retired and destroyed in accordance with published Department of State Records Disposition Schedules as approved by the National Archives and Records Administration (NARA). More specific information may be obtained by writing to the Director; Office of Information Programs and Services, A/GIS/IPS; SA-2, Department of State; 515 22nd Street NW.; Washington, DC 20522-8001.

SYSTEM MANAGER(S) AND ADDRESS:

Director, Office of Information Programs and Services, SA-2; Department of State; 515 22nd Street NW.; Washington, DC 20522-8001.

NOTIFICATION PROCEDURE:

Individuals who have reason to believe that the Office of Information Programs and Services might have records maintained under their name or personal identifier should write to the Director, Office of Information Programs and Services; SA-2; Department of State; 515 22nd Street NW.; Washington, DC 20522-8001. The individual must specify that he/she wishes the system to be checked. At a minimum, the individual must include: Name; date and place of birth; current mailing address and zip code; signature; case number if available; and other information helpful in identifying the record.

RECORD ACCESS PROCEDURES:

Individuals who wish to gain access to or amend records pertaining to themselves should write to the Director, Office of Information Programs and Services (address above).

CONTESTING RECORD PROCEDURES:

(See above.)

RECORD SOURCE CATEGORIES:

These records may contain information obtained from the requester, attorneys representing the requester and others authorized to represent requesters, records systems searched, and officials of other government agencies who may have provided/referred information relative to the request including, but not limited to documents, advice, concurrence, recommendations and disclosure determinations.

SYSTEMS EXEMPTED FROM CERTAIN PROVISIONS OF THE ACT:

Pursuant to 5 U.S.C. 552a(j)(2), records in this system of records may be exempted from any part of the Privacy Act except 5 U.S.C. 552a(b), (c)(1) and (2), (e)(4)(A) through (F), (e)(6), (7), (9), (10), and (11), and (i).

Pursuant to 5 U.S.C. 552a(k)(1), (k)(2), (k)(3), (k)(4), (k)(5), (k)(6), and (k)(7), records in this system of records may be exempted from 5 U.S.C. 552a(c)(3), (d), (e)(1), (e)(4)(G), (H), and (I) and (f).

When the Department of State is processing requests under the purpose of this system, exempt materials from other systems of records may become part of the records in this system. To the extent that copies of exempt records from other systems of records are entered into this system, the Department of State hereby claims the same exemptions for those records that are claimed for the original primary systems of records from which they originated.

[FR Doc. 2012-19796 Filed 8-10-12; 8:45 am]

BILLING CODE 4710-24-P